TENNESSEE VALLEY AUTHORITY

Meeting of the Regional Energy Resource Council

AGENCY: Tennessee Valley Authority (TVA).

ACTION: Notice of meeting.

SUMMARY: The TVA Regional Energy Resource Council (RERC) will hold a meeting on February 18, to kickoff the 7th term of the RERC with a member orientation and to receive an update on TVA's Integrated Resource Plan (IRP). The IRP provides strategic direction on how TVA will continue to provide low-cost, reliable, and resilient electricity to the 10 million residents of the Valley region.

DATES: The meeting will be held in Chattanooga, Tennessee, at the Westin Chattanooga on Wednesday, February 18, 2026, from 9:00 a.m. to 3:00 p.m. ET. RERC members are invited to attend the meeting in person. The public is invited to view the meeting virtually or attend in person. A one-hour public listening session for the public to present comments virtually or in person will be held February 18, at 11:15 a.m. ET. A link and instructions to view the meeting will be posted on TVA's RERC website at www.tva.com/rerc prior to the meeting.

ADDRESSES: The meeting will take place at the Westin Chattanooga at 801 Pine St., Chattanooga, TN 37402. The meeting will also be available virtually to the public. Instructions to view the meeting will be posted at www.tva.com/rerc prior to the meeting. Persons who wish to speak virtually during the public listening session must pre-register by 4:00 p.m. ET Thursday, February 12, 2026, by emailing bhaliti@tva.gov. Persons wishing to speak in person are requested to register either at the door between 8:30 a.m. and 9:00 a.m. ET on Wednesday, February 18, 2026, or in advance by emailing bhaliti@tva.gov. Persons who are registered to provide comments will be called on during the public listening session to share their views for up to five minutes, depending on number of registrants. Written comments are also invited and may be emailed to bhailti@tva.gov. Anyone needing special accommodations should let the contact below know at least one week in advance.

FOR FURTHER INFORMATION CONTACT: Bekim Haliti, bhaliti@tva.gov or 931-349-1894.

SUPPLEMENTARY INFORMATION: The RERC was established to advise TVA on its energy resource activities and the priorities among competing objectives and values. Notice of this meeting is given under the Federal Advisory Committee Act (FACA), 5 U.S.C. 10.

The meeting agenda includes the following:

February 18

1. Welcome and Introductions

2. RERC and TVA Meeting Update

3. Introduction to TVA

4. Public Listening Session

5. IRP Update

Dated: February 4, 2026.
Amy Edge,
Designated Federal Officer, Tennessee Valley Authority.

[FR Doc. 2026-02540 Filed 2-6-26; 8:45 am]

BILLING CODE 8120-08-P